DEPARTMENT OF VETERANS AFFAIRS

Notice of Performance Review Board Members

AGENCY: Department of Veterans Affairs, Corporate Senior Executive Management Office.

ACTION: Notice.

SUMMARY: Agencies are required to publish a notice in the Federal Register of the appointment of Performance Review Board (PRB) members. This notice announces the appointment of individuals to serve on the PRB of the Department of Veterans Affairs.

DATES: This appointment is effective October 3, 2024.

ADDRESSES: Corporate Senior Executive Management Office, Department of Veterans Affairs, 810 Vermont Avenue NW, Washington, DC 20420.

FOR FURTHER INFORMATION CONTACT: Contact Carrie M. Johnson-Clark, Executive Director, Corporate Senior Executive Management Office (006D), Department of Veterans Affairs, 810 Vermont Avenue NW, Washington, DC 20420, 202-632-5181.

SUPPLEMENTARY INFORMATION: The membership of the Department of Veterans Affairs Performance Review Board is as follows:

Kabat, Margaret B.—Chair

Love-Holmon, Shana—Vice Chair

Arnold, Kenneth A.

Beard, Dewaine L.

Billups, Angela

Bocchicchio, Alfred

Boyd, Teresa D.

Brower, Marilyn D.

Brubaker, Paul R.

Cardozo, Julia

Christy, Phillip W.

Crews, Paul S.

Ellis, Anne M.

Eskenazi, Laura H.

Flint, Sandra

Goins, Gregory W.

Hall, Patricia L.

Hogan, Michael R.

Houston, Bradley

Jones, Wendell E.

Lambert, Jonathan W.

Lee, Aaron

Liezert, Timothy W.

Llorente, Maria D.

London, Jeffrey

McDougall, Skye

McInerney, Joan E.

Murphy, Beth

Nassar, Joseph

Perry, David

Pope, Derwin B.

Pozzebon, Lisa

Rawls, Cheryl J.

Ruzick, Laura E.

Sherrill, Lynette

Sirhal, Timothy

Terrell, Brandye

Zomchek, Daniel S.

Authority: 5 U.S.C. 4314(c)(4).

Signing Authority: Denis McDonough, Secretary of Veterans Affairs, approved and signed this document on September 27, 2024, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2024-22728 Filed 10-2-24; 8:45 am]

BILLING CODE 8320-01-P